DEPARTMENT OF ENERGY

Federal Energy Regulatory Commission

[Docket No. RP03-374-002]

Kern River Gas Transmission Company; Notice of Request for Waiver

August 6, 2003.

Take notice that on July 30, 2003, Kern River Gas Transmission Company petitioned the Commission for a waiver of the EDI/EDM and FF/EDM processing requirements related to those NAESB Version 1.6 data sets that are not currently being utilized by Kern River's customers or other parties until such time as a bona fide request for those data sets is received by Kern River.

Kern River states that it has served a copy of this filing on each person designated on the official service list compiled by the Secretary in this proceeding.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 12, 2003.

Magalie R. Salas,
Secretary.

[FR Doc. 03-20626 Filed 8-12-03; 8:45 am]

BILLING CODE 6717-01-P